DEPARTMENT OF THE INTERIOR

Bureau of Land Management

[CACA 48668; CA-690-07-5101-ER-B240]

Notice of Intent To Prepare a Joint Environmental Impact Statement and Final Staff Assessment, and Amend the California Desert Conservation Area Plan; California

Correction

In the Federal Register of November 6, 2007, in FR Doc. E7-21762, on page 62672, at the end of the first column, “[Authority: 43 CFR 1712 and 43 CFR 1761]” should read “[Authority: 43 CFR 1610.5-5 and 43 CFR 2800]”.

Dated: November 7, 2007.
Tom Pogacnik,
Assistant Deputy State Director, Natural Resources (CA-930).

[FR Doc. E7-22173 Filed 11-13-07; 8:45 am]

BILLING CODE 4310-40-P